DEPARTMENT OF ENERGY

[Docket No. EL02-121-006, et al.]

Federal Energy Regulatory Commission Occidental Chemical Corporation, et al.; Electric Rate and Corporate Filings

September 11, 2003.

The following filings have been made with the Commission. The filings are listed in ascending order within each docket classification.

1. Occidental Chemical Corporation v. PJM Interconnection, L.L.C. and Delmarva Power & Light Company

[Docket No. EL02-121-006]

Take notice that on September 5, 2003, PJM Interconnection, L.L.C. tendered for filing a Refund Report.

Comment Date: October 6, 2003.

2. TransAlta Energy Marketing (U.S.) Inc. v. Bonneville Power Administration

[Docket No. EL03-125-001]

Take notice that on August 22, 2003, Bonneville Power Administration (Bonneville) submitted for filing a report pursuant to the Commission's request for information.

Comment Date: September 22, 2003.

3. The Public Service Commission of Maryland; Maryland Office of People's Counsel v. Mirant Americas Energy Marketing, LP

[Docket No. EL03-226-000]

Take notice that on September 8, 2003, the Public Service Commission of Maryland and the Maryland Office of People's Counsel filed a petition for declaratory order pursuant to Rule 207 of the Commission's Rules of Practice and Procedure, 18 CFR 385.207. Petitioners seek a declaratory order from the Federal Energy Regulatory Commission declaring that Mirant Americas Energy Marketing, LP must continue to perform pursuant to a wholesale power agreement between Mirant and The Potomac Electric Power Company.

The Petitioners states that copies of the filing were served on Mirant and other potentially affected entities by electronic mail.

Comment Date: September 18, 2003.

4. Aquila, Inc.

[Docket Nos. ES03-43-001 and ES03-43-002]

Take notice that: (1) on August 8, 2003, in Docket No. ES03-43-001, Aquila, Inc. (Aquila) supplemented its July 25, 2003 filing in Docket No. ES03-43-000; and (2) on August 27, 28 and 29 and September 9, 2003, in Docket No. ES03-43-002, Aquila tendered filings in response to a data request issued on August 21, 2003, by the Director of the Division of Tariffs and Market Development-Central, in the above-referenced docket.

Comment Date: September 29, 2003.

5. Midwest Independent Transmission System Operator, Inc.

[Docket No. ES03-56-000]

Take notice that on September 3, 2003, Midwest Independent Transmission System Operator, Inc. (Midwest ISO) submitted an application pursuant to Section 204 of the Federal Power Act seeking authorization to issue up to $125 million in unsecured senior notes.

Midwest ISO also requests a waiver from the Commission's competitive bidding and negotiated placement requirements at 18 CFR 34.2.

Comment Date: October 1, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-24150 Filed 9-18-03; 12:01 pm]

BILLING CODE 6717-01-P